DEPARTMENT OF THE INTERIOR

Bureau of Indian Affairs

[190A2100DD/AAKC001030/A0A501010.999900253G]

Indian Gaming; Extension of Tribal-State Class III Gaming Compact (Pyramid Lake Paiute Tribe of the Pyramid Reservation and the State of Nevada)

AGENCY: Bureau of Indian Affairs, Interior.

ACTION: Notice.

SUMMARY: This notice announces the extension of the Class III gaming compact between the Pyramid Lake Paiute Tribe of the Pyramid Lake Reservation and the State of Nevada.

DATES: The extension takes effect on August 20, 2019.

FOR FURTHER INFORMATION CONTACT: Ms. Paula L. Hart, Director, Office of Indian Gaming, Office of the Assistant Secretary—Indian Affairs, Washington, DC 20240, (202) 219-4066.

SUPPLEMENTARY INFORMATION: An extension to an existing tribal-state Class III gaming compact does not require approval by the Secretary if the extension does not modify any other terms of the compact. 25 CFR 293.5. The Pyramid Lake Paiute Tribe of the Pyramid Lake Reservation and the State of Nevada have reached an agreement to extend the expiration date of their existing Tribal-State Class III gaming compact to February 23, 2021. This publishes notice of the new expiration date of the compact.

Dated: July 24, 2019.
John Tahsuda,
Principal Deputy Assistant Secretary—Indian Affairs.

[FR Doc. 2019-17943 Filed 8-19-19; 8:45 am]

BILLING CODE 4337-15-P